DEPARTMENT OF COMMERCE

International Trade Administration

[A-583-828]

Stainless Steel Wire Rod From Taiwan: Notice of Rescission of Antidumping Duty Administrative Review

Correction

In notice document 05-3835 appearing on page 9616 in the issue of Monday, February 28, 2005, make the following corrections:

1. In the first column, under the DATES heading, “February 23, 2005” should read “February 28, 2005.”

2. In the second column, in the seventh line from the top, “a notice” should read “a notice of initiationÿ7E.”

3. In the 13th line from the top, “in that” should read “it had.”

4. On the same page, in the same column, in the 14th line, after “Outokumpu” insert the following: “as an affiliate of Walsin, and withdrew its request for an administrative review of Outokumpu.”

[FR Doc. C5-3835 Filed 3-3-05; 8:45 am]

BILLING CODE 1505-01-D